DEPARTMENT OF STATE

[Public Notice: 12486]

Industry Advisory Group: Notice of New Open Meeting Date

The date for the U.S. Department of State Bureau of Overseas Buildings Operations' 2024 Industry Advisory Group Annual Meeting has been changed. The new date is now Tuesday, September 17, 2024, from 8:30 a.m. to 5:30 p.m. ET. The meeting will be hybrid and open to the public from 1:30 p.m.-5:30 p.m., including a networking session starting at 4:30 p.m., at the U.S. Department of State, located at 2201 C Street NW, Washington, DC.

For those who have already registered to attend in person, please email OBO External Affairs if you are unable to attend. Virtual attendees do not need to take any action and may use their existing meeting invitations.

The meeting will primarily be devoted to discussions between the Department's senior management and IAG members regarding industry and academia's latest concepts, methods, best practices, innovations, and ideas supporting OBO's mission to provide the most effective facilities for United States diplomacy abroad. Additionally, time will be provided for public members to ask questions and provide comments.

The public may attend this meeting in-person as seating capacity allows. Admittance to the State Department building will be through a pre-arranged clearance list. OBO External Affairs will post an open registration announcement on OBO's website (www.state.gov/obo) and social media and email the announcement to OBO's distribution list to inform the public of the event. We encourage those interested in attending the IAG Annual Meeting to sign up for OBO's Distribution List.

Please forward any requests for reasonable accommodation to OBOExternalAffairs@state.gov by August 29, 2024. Request for reasonable accommodation made after that date will be considered but may not be fulfilled.

For further information, please contact External Affairs at OBOExternalAffairs@state.gov.

Rollin L. Miller,
Chief of Staff, Bureau of Overseas Buildings Operations, Department of State.

[FR Doc. 2024-18402 Filed 8-15-24; 8:45 am]

BILLING CODE 4710-51-P